DEPARTMENT OF STATE

[Public Notice 4264]

Advisory Committee on International Economic Policy; Notice of Open Meeting

The Advisory Committee on International Economic Policy (ACIEP) will meet from 9 a.m. to 12 noon on Thursday, March 6, 2003 in Room 1105 at the U.S. Department of State, 2201 C Street NW., Washington, DC 20520. The meeting will be hosted by Assistant Secretary of State for Economic and Business Affairs E. Anthony Wayne and Committee Chairman R. Michael Gadbaw.

The ACIEP serves the U.S. Government in a solely advisory capacity concerning issues and problems in international economic policy. Proposed topics for the March 6 meeting are: economic security, investment issues, and a draft UN Convention Against Corruption.

The public may attend these meetings as seating capacity allows. The media are welcome but discussions are off the record. Admittance to the Department of State building is by means of a pre-arranged clearance list. In order to be placed on this list, please provide your name, title, company or other affiliation if appropriate, social security number, date of birth, and citizenship to the Advisory Committee Executive Secretariat by fax (202) 647-5936 (Attention: Gwendolyn Jackson); Tel: (202) 647-0847; or email: (jacksongl@state.gov) by March 4, 2003.

On the date of the meeting, persons who have pre-registered should come to the 23rd Street entrance. One of the following valid means of identification is required for admittance: a U.S. driver's license with photo, a passport, or a U.S. Government identification.

For further information about the meeting, please contact Eliza Koch, ACIEP Secretariat, Office of Economic Policy and Public Diplomacy, Economic Bureau, U.S. Department of State, Room 3526, 2201 C Street NW., Washington, DC 20520, Tel (202) 647-1310.

Dated: February 14, 2003.
Daniel A. Clune,
Director, Office of Economic Policy and Public Diplomacy, Department of State.

[FR Doc. 03-4099 Filed 2-19-03; 8:45 am]

BILLING CODE 4710-07-P